ENVIRONMENTAL PROTECTION AGENCY

[Docket No. [FRL-7943-7]

Clean Air Act Operating Permit Program; Petition for Objection to State Operating Permits ExxonMobil Refining and Supply Company (ExxonMobil)

AGENCY: Environmental Protection Agency (EPA).

ACTION: Notice of final order on petition to object to State operating permits.

SUMMARY: The EPA Administrator signed an order, dated June 29, 2005, denying a petition to object to State operating permits issued by the Louisiana Department of Environmental Quality (LDEQ) for the Clean Air Commitment Project of ExxonMobil. The project consists of one Prevention of Significant Deterioration permit and ten title V permits affecting multiple fuel processing units at the ExxonMobil facilities located at the Baton Rouge Refinery in East Baton Rouge Parish and the Anchorage tank farm in West Baton Rouge Parish. Pursuant to section 505(b)(2) of the Clean Air Act (Act), the petitioners may seek judicial review of this petition response in the United States Court of Appeals for the Fifth Circuit. Any petition must be filed within 60 days of the date this notice appears in the Federal Register, pursuant to seciton 307(d) of the Act.

ADDRESSES: You may review copies of the final order, the petition, and other supporting information at EPA Region 6, 1445 Ross Avenue, Dallas, Texas 75202-2733. If you wish to examine these documents, you should make an appointment at least 24 hours before visiting day. The final order is also available electronically at the following address: http://www.epa.gov/region07/programs/artd/air/title5/petitiondb/petitiondb2002.htm.

FOR FURTHER INFORMATION CONTACT: Ms. Mary Stantion, Air Permits Section, Multimedia Planning and Permitting Division, EPA Region 6, 1445 Ross Avenue, Dallas, Texas 75202-2733, telephone (214) 665-8377, or e-mail at Stanton.Marya@epa.gov.

SUPPLEMENTARY INFORMATION: The Act affords EPA a 45-day period to review and, as appropriate, object to operating permits proposed by State permitting authorities under title V of the Act, 42 U.S.C. 7661-7661f. Section 505(b)(2) of the Act authorizes any person to petition the EPA Administrator within 60 days after the expiration of this review period to object to State operating permits if EPA has not objected on its won initiative. Petitions must be based only on objections to the permit that were raised with reasonable specificity during the public comment period provided by the State, unless the petitioner demonstrates that it was impracticable to raise these issues during the comment period or the grounds for the issues arose after this period.

The Louisiana Environmental Action Network and Ms. Stephanie Anthony submitted a petition requesting that the Administrator object to the title V operating permits issued by LDEQ to ExxonMobil for modifications affecting multiple fuel processing units at the ExxonMobil facilities located at the Baton Rouge Refinery in East Baton Rouge Parish and the Anchorage tank farm in West Baton Rouge Parish. The petition maintains that the permits are inconsistent with the Act because:

1. The permits allow ExxonMobil to evade Nonattainment New Source Review (NNSR) requirements by using “paper reductions” to claim emission reduction credits;

2. The permits unlawfully expand the contemporaneous netting window by reaching more than four years into the past for emission reductions to offset future increases of nitrogen oxides (NOX) and volatile organic compounds (VOCs) and thereby avoid NNSR;

3. The permits allow the use of speculative future reductions from an unbuilt project to unlawfully net out of NNSR for (NOX);

4. The permits rely on invalid credits from the closure of tanks at ExxonMobil's Maryland Tank Farm to offset increased VOC emissions;

5. The permits violate New Source Review requirements by relying on an invalid emission reduction credit banking system; and

6. The LDEQ improperly denied a request for a public hearing.

On June 29, 2005, the Administrator issued an order denying the petition. The order explains the reasons for the Administrator's decision that the petition does not demonstrate that the permits are not in compliance with the Act.

Dated: July 14, 2005.
Richard E. Greene,
Regional Administrator, Region 6.

[FR Doc. 05-14735 Filed 7-25-05; 8:45 am]

BILLING CODE 6560-50-M